DEPARTMENT OF JUSTICE

Antitrust Division

Notice Pursuant to the National Cooperative Research and Production Act of 1993—Telemanagement Forum

Notice is hereby given that, on October 19, 2021, pursuant to Section 6(a) of the National Cooperative Research and Production Act of 1993, 15 U.S.C. 4301 et seq. (“the Act”), TM Forum, A New Jersey Non-Profit Corporation (“The Forum”) filed written notifications simultaneously with the Attorney General and the Federal Trade Commission disclosing changes in its membership. The notifications were filed for the purpose of extending the Act's provisions limiting the recovery of antitrust plaintiffs to actual damages under specified circumstances.

Specifically, the following entities have become members of the Forum: Acceldata, Inc., Palo Alto, CA; Affirmed Networks, Inc., Acton, MA; Akamanta, Fort Lauderdale, FL; Altiostar Networks, Inc., Tewksbury, MA; Anodot, Raanana, ISRAEL; Axiata Digital Labs Pte Ltd, Colombo, SRI LANKA; Beijing ZZNode Technologies Co., Ltd., Beijing, PEOPLE'S REPUBLIC OF CHINA; BroadTech Technology Co., Ltd., Chongqing, PEOPLE'S REPUBLIC OF CHINA; B.YOND Inc., Frisco, TX; China Information Technology Designing Consulting Institute Co., Ltd., Beijing, PEOPLE'S REPUBLIC OF CHINA; China Unitechs Co., Ltd., Shanghai, PEOPLE'S REPUBLIC OF CHINA; Circles Life Asia Technology Pte. Ltd., Singapore, SINGAPORE; CityFibre, London, UNITED KINGDOM; Cloudera, Inc., Palo Alto, CA; Commercetools GmbH, Munich, GERMANY; Confluent Europe Ltd., London, UNITED KINGDOM; Cyient Ltd., Hyderabad, INDIA; Empirix Inc., Billerica, MA; Eureka.ai, Bellevue, WA; F2V CONSEIL, Lyon, FRANCE; Finance University under the Government of the Russian Federation, Moscow, RUSSIA; Future Connections Holding B.V., Etten-Leur, NETHERLANDS; Globys, Inc., Seattle, WA; Gotransverse, Austin, TX; HCL Technologies, Noida, INDIA; Indra Company Brasil Tecnologia Ltda., São Paulo, BRAZIL; Integsoft SA de CV, Coauhuila, MEXICO; Invia Pty Ltd, North Ryde, AUSTRALIA; Jean-Luc Tymen, Bordeaux, FRANCE; L3Harris Technologies, Inc., Melbourne, FL; Lancaster University, Lancaster, UNITED KINGDOM; Lasse Degner, Löhne, GERMANY; Logate d.o.o., Podgorica, MONTENEGRO; MATRIXX Software, Inc., Foster City, CA; Maxis Broadband Sdn. Bhd, Kuala Lumpur, MALAYSIA; MIND C.T.I. Ltd, Yoqneam Ilit, ISRAEL; Moflix AG, Wollerau, SWITZERLAND; Nae Costa Rica Business and Services S.R.L, San Jose, COSTA RICA; Neterra EOOD, Sofia, BULGARIA; NewAgent Business Consulting & Solutions, Jaraguá do Sul, BRAZIL; NOS Technology—Concepção, Construção e Gestão de Redes de Comunicações, S.A., Porto, PORTUGAL; Nuevatel PCS de Bolivia, La Paz, BOLIVIA; ParcelLab GmbH, München, GERMANY; PiA Bilisim Hizmetleri A.S., Istanbul, TURKEY; Qeema Consultancy and Technology Service, Cairo, EGYPT; Red Hat, Inc., Raleigh, NC; S4 Digital, Lisbon, PORTUGAL; SALAR LLC FZE, Dubai, UAE; Selector AI, Santa Clara, CA; Shai Calev, Tel Aviv, ISRAEL; Simeon Cloud, San Jose, CA; Solent University, Southampton, UNITED KINGDOM; Solvatio AG, Rimpar, GERMANY; Srivari Incorporated DBA Viswambara Software Systems, Bellevue, WA; STS Arabia, Amman, JORDAN; Sudo Technology Co. LTD, Beijing, PEOPLE'S REPUBLIC OF CHINA; Tallence AG, Hamburg, GERMANY; TAWAL, Riyadh, SAUDI ARABIA; Teliolabs Communication Private Limited, Hyderbad, INDIA; Totogi LLC., Wilmington, DE; Unified National Networks Sdn Bhd, Anggerek Desa, BRUNEI; University College Dublin, Dublin, IRELAND; Vantage Towers, Dusseldorf, GERMANY; Vietnam Digital Transformation Ecosystem, Ha Noi, VIETNAM; VOCUS PTY LTD, Melbourne, AUSTRALIA; VoltDB, Inc., Bedford, MA; WideOpenWest, Inc., Englewood, CO; Zhongguancun IQ Alliance for Software Services Industry, Beijing, PEOPLE'S REPUBLIC OF CHINA;

Also, the following members have changed their names: Swim.it Inc., Swim, Campbell, CA; BearingPoint Limited, Beyond by BearingPoint, London, UNITED KINGDOM; Hitss Consulting SA de CV, HITSS SOLUTIONS, S.A. DE C.V., Mexico City, MEXICO; SSE Enterprise Limited, NEOS NETWORKS, Reading, UNITED KINGDOM; AsiaInfo Technologies Limited, AsiaInfo Technologies (China) Co. Ltd., Hong Kong, HONG KONG-CHINA;

In addition, the following parties have withdrawn as parties to this venture: Asia Pacific College, Maynila, PHILIPPINES; Athlone Institute of Technology, Athlone, IRELAND; AZR for informatics & media solutions L.L.C., Tripoli, LIBYA; BBFA Ltd., Shrewton, UNITED KINGDOM; Beijing Tianyuan DIC Information Technology Co. Ltd., Beijing, PEOPLE'S REPUBLIC OF CHINA; Billing College, Teaneck, NJ; Celona Technologies, Cupertino, CA; Center for Emerging Sciences, Engineering & Technology (CESET), Islamabad, PAKISTAN; Concentra Consulting Limited, London, UNITED KINGDOM; Corvinus University of Economic Sciences, Budapest, HUNGARY; de Brenni Executive Consulting Services, Adelaide, AUSTRALIA; Department of Computer and Systems Sciences, DSV, Stockholm University, Kista, SWEDEN; DIT-UPM, Madrid, SPAIN; Electron Bridge, Noida, INDIA; EVERIS SPAIN SLU, Madrid, SPAIN; Facultad Regional Buenos Aires, Universidad Tecnologica Nacional, Buenos Aires, ARGENTINA; Federal University of Espirito Santo, Espirito Santo, BRAZIL; Federal University of Paraná, Paraná, BRAZIL; Fraunhofer-Institute for Algorithms and Scientific Computing (SCAI), Sankt Augustin, GERMANY; FTTH Council Asia-Pacific, Singapore, SINGAPORE; Fundação Getulio Vargas São Paulo, São Paulo, BRAZIL; GDX, Johannesburg, SOUTH AFRICA; GLOBEOSS, Selangor, MALAYSIA; Gradiant, Vigo, SPAIN; HEC Lausanne, University of Lausanne, Lausanne, SWITZERLAND; Istanbul Bilgi University, Istanbul, TURKEY; Kyivstar JSC, Kyiv, UKRAINE; Kyushu University, Faculty of Economics, Fukuoka, JAPAN; Ladoke Akintola University of Technology, Ogbomosho, NIGERIA; LE SAVOIR-FAIRE ITIL, Yaounde, CAMEROON; London School of Economics, LSE Network Economy Forum, London, UNITED KINGDOM; Lumen, Monroe, LA; Mageda, Sao Paulo, BRAZIL; Mauritius Telecom, Port Louis, MAURITIUS; MDC (Management and Development Company), Beirut, LEBANON; Microtest Education Center, Moscow, RUSSIA; Neptune Consulting, Eastern Cape, SOUTH AFRICA; Network Technical Authority, UK MoD, Corsham, UNITED KINGDOM; North State Telephone Company d.b.a. NorthState, A North Carolina corporation, High Point, NC; NS Solutions USA Corporation, San Mateo, CA; OFFIS e.V., Oldenburg, GERMANY; OneWeb, London, UNITED KINGDOM; Pak Telecom Mobile Limited, Islamabad, PAKISTAN; Panorama Software (Europe) Ltd, Hertfordshire, UNITED KINGDOM; PiA-TEAM INC., Bellevue, WA; Post and Telecommunication Institute of Technology, Ha Noi City, VIETNAM; PromonLogicalis Tecnologia E Participacoes Ltda., Sao Paulo, BRAZIL; PT Telekomunikasi Selular, Jakarta, INDONESIA; RASHA COMMUNICATIONS DEVELOPMENT LTD, London, UNITED KINGDOM; Sedicii Innovations Limited, Waterford, IRELAND; Shelter, London, UNITED KINGDOM; Singer TC GmbH, Schwedeneck, GERMANY; Splunk, San Francisco, CA; St. Petersburg College, St. Petersburg, FL; Stratecast|Frost & Sullivan, Chico, CA; Sybica, Burlington, CANADA; Symbiosis Institute of Digital and Telecom Management, Pune, INDIA; Syntologica, Half Moon Bay, CA; Telekom Slovenije, Ljubljana, SLOVENIA; Telkom University, Bandung, INDONESIA; Telsy Spa, Piemonte, ITALY; Texas Tech University High Performance Computing Center, Lubbock, TX; The University of San Francisco, San Francisco, CA; The University of Tokyo, Tokyo, JAPAN; UCS GLOBAL TECHNOLOGIES PVT LTD, Srinagar, INDIA; Universidad Politecnico de Madrid, Facultad de Informática, Ontology Engineering Group, Madrid, SPAIN; Universidad Pública de Navarra—School of Engineering, Pamplona, SPAIN; Università di Napoli Federico II—Dipartimento di Informatica e Sistemistica, Naples, ITALY; Université de Rennes 1—Laboratoire de recherche IRISA, Rennes, FRANCE; University of California, Office of the President, Oakland, CA; University of Ljubljana, Faculty of Computer and Information Science, Ljubljana, SLOVENIA; University of Michigan Institute for Social Research, Communications Studies, Ann Arbor, MI; University of the Highlands and Islands, Inverness, UNITED KINGDOM; University of York Communications Research Group, Heslington, UNITED KINGDOM; Vertical Systems Group, Norwood, MA; Zurich University of Applied Sciences, Zurich, SWITZERLAND;

No other changes have been made in either the membership or planned activity of the group research project. Membership in this group research project remains open and TM Forum intends to file additional written notifications disclosing all changes in membership.

On October 21, 1988, TM Forum filed its original notification pursuant to Section 6(a) of the Act. The Department of Justice published a notice in the Federal Register pursuant to Section 6(b) of the Act on December 8, 1988 (53 FR 49615).

The last notification was filed with the Department on May 3, 2021. A notice was published in the Federal Register pursuant to Section 6(b) of the Act on May 25, 2021 (86 FR 28150).

Suzanne Morris,
Chief, Premerger and Division Statistics, Antitrust Division.

[FR Doc. 2021-25700 Filed 11-23-21; 8:45 am]

BILLING CODE 4410-11-P